DEPARTMENT OF COMMERCE

International Trade Administration

[University of Chicago, et al.]

Notice of Decision on Applications for Duty-Free Entry of Scientific Instruments

This is a decision pursuant to Section 6(c) of the Educational, Scientific, and Cultural Materials Importation Act of 1966 (Pub. L. 89-651, as amended by Pub. .106-36; 80 Stat. 897; 15 CFR part 301). Related records can be viewed between 8:30 A.M. and 5:00 P.M. in Room 3705, U.S. Department of Commerce, 14th and Constitution Ave, NW, Washington, D.C.

Comments: None received. Decision: Approved. We know of no instruments of equivalent scientific value to the foreign instruments described below, for such purposes as this is intended to be used, that was being manufactured in the United States at the time of its order.

Docket Number: 09-021. Applicant: University of Chicago, Argonne, Lemont, IL 60439. Instrument: Isolation Transformer. Manufacturer: Guth GmbH, Germany. Intended Use: See notice at 74 FR 27017, June 5, 2009. Reasons: A unique feature of this instrument is that it is capable of providing 110kVA AC power to an injector platform, and will operate at a positive voltage of up to 250kVDC at continuous operation. No domestic sources make devices with similar capabilities.

Docket Number: 09-028. Applicant: University of Texas at Austin, Austin, TX 78722. Instrument: Synchroslice. Manufacturer: Lohmann Research Products, Germany. Intended Use: See notice at 74 FR 27017, June 5, 2009. Reasons: This instrument is capable of performing serial section transmission electron microscopy, which is required in order to analyze the detailed structural changes involved. No domestic sources make devices with similar capabilities.

Docket Number: 09-035. Applicant: University of Minnesota Medical School, Minneapolis, MN 55455. Instrument: Muscle Research System. Manufacturer: Scientific Instruments, Germany. Intended Use: See notice at 74 FR 27017, June 5, 2009. Reasons: A unique feature of this instrument is that it requires a gradient maker and pump control in order to simultaneously measure the istometric force of skinned muscle fibers as a function of calcium concentration. Further, a laser system is needed to excite fluophores in order to simultaneously measure the force and measure the myosin ATPase. No domestic sources make devices with the capability of making simultaneous measurements.

Dated: July 1, 2009.
Christopher Cassel,
Acting Director Subsidies Enforcement Office Import Administration.

[FR Doc. E9-16288 Filed 7-8-09; 8:45 am]

BILLING CODE 3510-DS-S